DEPARTMENT OF TRANSPORTATION

Federal Railroad Administration

Docket No. FRA-2000-7257

[Notice No. 30]

Railroad Safety Advisory Committee (“RSAC”); Working Group Activity Update

AGENCY: Federal Railroad Administration (FRA), Department of Transportation (DOT).

ACTION: Announcement of Railroad Safety Advisory Committee (RSAC) working group activities.

SUMMARY: FRA is updating its announcement of RSAC's working group activities to reflect their current status. For additional details on completed activities see prior working group activity notices (68 FR 25677).

FOR FURTHER INFORMATION CONTACT: Trish Butera or Lydia Leeds, RSAC Coordinators, FRA, 1120 Vermont Avenue, NW., Mailstop 25, Washington, DC 20590, (202) 493-6213 or Grady Cothen, Deputy Associate Administrator for Safety Standards and Program Development, FRA, 1120 Vermont Avenue, NW., Mailstop 25, Washington, DC 20590, (202) 493-6302.

SUPPLEMENTARY INFORMATION: This notice serves to update FRA's last announcement of working group activities and status reports of May 13, 2003, (68 FR 25677). The twenty-first full Committee meeting was held May 20, 2003. The twenty-second meeting is scheduled for September 18, 2003, at the Washington Plaza Hotel.

Since its first meeting in April of 1996, the RSAC has accepted eighteen tasks. Status for each of the tasks is provided below:

Task 96-1—(Withdrawn) Revising the Freight Power Brake Regulations. This task was withdrawn following discussion by the Working Group, and the rulemaking was completed (49 CFR part 232).

Task 96-2—(Completed) Reviewing and recommending revisions to the Track Safety Standards (49 CFR part 213).

Task 96-3—(Completed) Reviewing and recommending revisions to the Radio Standards and Procedures (49 CFR part 220).

Task 96-4—Reviewing the appropriateness of the agency's current policy regarding the applicability of existing and proposed regulations to tourist, excursion, scenic, and historic railroads. This Task was accepted on April 2, 1996, and a Working Group was established. The Working Group monitored the steam locomotive regulations task. Planned future activities involve the review of other regulations for possible adaptation to the safety needs of tourist and historic railroads. Contact: Grady Cothen (202) 493-6302.

Task 96-5—(Completed) Reviewing and recommending revisions to Steam Locomotive Inspection Standards (49 CFR part 230).

Task 96-6—(Completed) Reviewing and recommending revisions to miscellaneous aspects of the regulations addressing Locomotive Engineer Certification (49 CFR part 240).

Task 96-7—(Completed) Developing Roadway Maintenance Machines (On-Track Equipment) Safety Standards. This task was assigned to the existing Track Standards Working Group on October 31, 1996, and a Task Force was established. The Task Force finalized a proposed rule which was approved by the full RSAC in a mail ballot in August 2000. The NPRM was published January 10, 2001 (66 FR 1930). The Task Force met to review comments on February 27-March 1, 2002, and agreed to the disposition of the comments for the final rule. A Ballot was issued to the Working Group and all responders concurred. The RSAC approved the recommendations at the full RSAC meeting on May 29, 2002. The final rule was published in the Federal Register on July 28, 2003, (68 FR 44388). Contact: Al MacDowell (202) 493-6236.

Task 96-8—(Completed) This Planning Task evaluated the need for action responsive to recommendations contained in a report to Congress entitled, Locomotive Crashworthiness & Working Conditions.

Task 97-1—Developing crashworthiness specifications to promote the integrity of the locomotive cab in accidents resulting from collisions. This Task was accepted on June 24, 1997. A Task Force on engineering issues was established by the Working Group on Locomotive Crashworthiness to review collision history and design options and additional research was commissioned. The Working Group reviewed results of the research and is drafting performance-based standards for freight and passenger locomotives to present to the RSAC for consideration. An accident review task force has evaluated the potential effectiveness of suggested improvements. The Working Group reached tentative agreement for a proposed rule. The NPRM and Regulatory Impact Analysis have been revised to reflect the changes. The next step is for the Working Group to complete its review of the NPRM. Contact: Charles Bielitz (202) 493-6314.

Task 97-2—Evaluating the extent to which environmental, sanitary, and other working conditions in locomotive cabs affect the crew's health and the safe operation of locomotives, proposing standards where appropriate. This Task was accepted June 24, 1997.

(Sanitation) (Completed)

(Noise exposure) The Cab Working Conditions Working Group met most recently in Chicago, November 12-14, 2002. A tentative consensus was reached on the draft rule text. The Working Group approved the NPRM. On June 27, 2003, the full RSAC gave consensus by ballot on NPRM. The next step is to publish the NPRM in the Federal Register.

(Cab Temperature) (Withdrawn) The Cab Working Conditions Working Group considered issues related to control of cab temperature but was unable to achieve consensus. Cab temperature was withdrawn from RSAC, and regulatory action on this issue was terminated by FRA in May 2003.

(Other Working Conditions) The Working Group may consider additional issues (such as vibration) in the future.

Contact: Jeffrey Horn (202) 493-6283.

Task 97-3—Developing event recorder data survivability standards. This Task was accepted on June 24, 1997. The Event Recorder Working Group met actively in 2002, reviewing draft language for an NPRM. A revised draft NPRM was circulated to the Working Group for review and approval by August 22, 2003. Contact: Edward Pritchard (202) 493-6247.

Task 97-4 and Task 97-5—Defining Positive Train Control (PTC) functionalities, describing available technologies, evaluating costs and benefits of potential systems, and considering implementation opportunities and challenges, including demonstration and deployment. Task 97-6—Revising various regulations to address the safety implications of processor-based signal and train control technologies, including communications-based operating systems. These three tasks were accepted on September 30, 1997, and assigned to a single Working Group.

(Report to the Administrator.) (Completed) A Data and Implementation Task Force, formed to address issues such as assessment of costs and benefits and technical readiness, completed a report on the future of PTC systems. The report was accepted as RSAC's Report to the Administrator at the September 8, 1999, meeting. FRA enclosed the report with a letter Report to Congress signed May 17, 2000.

(Report to Congress.) The Appropriations Conferees included in the report on the FY 2003 DOT Appropriations Act a requirement for a second review of the costs and benefits of PTC. FRA will request the RSAC to comment on the draft report when available.

(Regulatory development.) The Standards Task Force, formed to develop PTC standards assisted in developing draft recommendations for performance-based standards for processor-based signal and train control systems. The NPRM was approved by consensus at the full RSAC meeting held on September 14, 2000. The NPRM was published in the Federal Register on August 10, 2001. A meeting of the Working Group was held December 4-6, 2001, in San Antonio, Texas to formulate recommendations for resolution of issues raised in the public comments. Tentative agreement was reached on most issues raised in the comments, but discussion of comments on a significant issue—the circumstances under which the base case employed in the risk assessment would need to be adjusted—revealed issues of ambiguity and disagreement. A meeting was held May 14-15, 2002, in Colorado Springs, Colorado at which the Working Group approved creation of a team to further explore issues related to the “base case” and related issues. Briefing of the full RSAC on the “base case” issue was completed on May 29, 2002, and consultations continued within the working group. The full Working Group met October 22-23, 2002, and again March 4-6, 2003. Resolution of the “base case” issue was considered by the Working Group at the July 8-9, 2003, meeting. While the Working Group was unable to reach agreement on resolution of the “base case,” it did approve by consensus recommendations for resolution of several issues raised in the comments on the NPRM. Those recommendations were circulated to the full Committee for mail ballot, and responses were requested by August 14, 2003. A majority of Committee members either voted to return the recommendations to the Working Group for reconsideration or non-concurred in the recommendations. Under RSAC procedures, the effect of this vote is to conclude Committee action on the topic. FRA is completing the final rule for review and clearance.

(Other program development activities.) Task forces on Human Factors and the Axiomatic Safety-Critical Assessment Process (risk assessment) continue to work toward development of a risk assessment toolkit, and the Working Group continues to meet to monitor the implementation of PTC and related projects. Contact: Grady Cothen (202) 493-6302.

Task 97-7—(Terminated) Determining damages qualifying an event as a reportable train accident. Action on this topic was terminated based on the recommendations of the Accident/Incident Working Group.

Task 00-1—Determining the need to amend regulations protecting persons who work on, under, or between rolling equipment and persons applying, removing or inspecting rear end marking devices (Blue Signal Protection). The Working Group held its first meeting on October 16-18, 2000, and six meetings have been held since then. FRA is reviewing the status of this activity. Contact: Doug Taylor (202) 493-6255.

Task 01-1—(Completed) Developing conformity of FRA's regulations for accident/incident reporting (49 CFR part 225) to revised regulations of the Occupational Safety and Health Administration (OSHA), U.S. Department of Labor, and to make appropriate revisions to the FRA Guide for Preparing Accident/Incident Reports (Reporting Guide).

Task 03-01—Amendments to the Passenger Equipment Safety Standards (49 CFR part 238) and the Passenger Train Emergency Preparedness (49 CFR part 239). This Task was accepted May 20, 2003, and a Working Group was established. Prior to embarking on substantive discussion of a specific task, the Working Group will set forth in writing a specific description of the task. The Working Group will hold its first meeting September 9-10, 2003. The Working Group will report any planned activity to the full Committee at each scheduled Committee meeting, including milestones for completion of projects and progress toward completion.

Please refer to the notice published in the Federal Register on March 11, 1996, (61 FR 9740) for more information about the RSAC.

Issued in Washington, DC, on September 8, 2003.
George A. Gavalla,
Associate Administrator for Safety.

[FR Doc. 03-23773 Filed 9-17-03; 8:45 am]

BILLING CODE 4910-06-P